DEPARTMENT OF TRANSPORTATION

National Highway Traffic Safety Administration

49 CFR Part 571

Federal Motor Vehicle Safety Standards

CFR Correction

In Title 49 of the Code of Federal Regulations, Parts 400 to 571, revised as of October 1, 2017, on page 982, in § 571.217, the first Figure 3D is removed, and on page 983, Figure 4 is reinstated to read as follows:

§ 571.217 Standard No. 217; Bus emergency exits and window retention and release.

* * * * *

BILLING CODE 1301-00-D

* * * * *

[FR Doc. 2018-08196 Filed 4-17-18; 8:45 am]

BILLING CODE 1301-00-C